DEPARTMENT OF ENERGY

Federal Energy Regulatory Commission

[Docket No. PF12-4-000]

Excelerate Energy L.P.; Notice of Intent To Prepare an Environmental Impact Statement for the Planned Aguirre Offshore Gasport Project, Request for Comments on Environmental Issues, and Notice of Public Scoping Meetings

The staff of the Federal Energy Regulatory Commission (FERC or Commission) will prepare an environmental impact statement (EIS) that will address the environmental impacts of the Aguirre Offshore GasPort Project involving construction and operation of facilities by Excelerate Energy L.P. (Excelerate) in Salinas, Puerto Rico. The Commission will use this EIS in its decision-making process to determine whether the project is in the public interest.

This notice announces the opening of the scoping process that the Commission will use to gather input from the public and interested agencies on the project. Your input will help the Commission staff determine what issues they need to evaluate in the EIS. Please note that the scoping period will close on March 30, 2012.

You may submit comments in written form or verbally. Further details on how to submit written comments are in the Public Participation section of this notice. In lieu of or in addition to sending written comments, the Commission invites you to attend the public scoping meetings scheduled as indicated below. The Commission will conduct the public scoping meetings in English, but there will be a concurrent Spanish language translation available.

Date and time | Location
March 20, 2012; 7 p.m. AST | Lions Club, Carretera 3 km Street Carrete, Guayama, Puerto Rico 00785.
March 21, 2012; 7 p.m. AST | Marina de Salinas, P.R. 701 (end) Playa Ward, Salinas, Puerto Rico 00751.

This notice is being sent to the Commission's current environmental mailing list for this project. A flyer containing a brief project description and the above meeting information distributed in the general project area presents information on how to obtain copies of this notice in Spanish. State and local government representatives should notify their constituents of this planned project and encourage them to comment on their areas of concern.

Summary of the Proposed Project

Excelerate has announced its plans to construct and operate a maritime liquefied natural gas (LNG) import terminal and approximately 4 miles of 18-inch-diameter pipeline linking the receiving facility to the existing onshore Puerto Rico Electric Power Authority's Central Aguirre Power Plant (CAPP). The LNG terminal would be in Puerto Rican waters, about 1 mile outside of Jobos Bay and 4 miles off the southern coast of Puerto Rico, near the towns of Salinas and Guayama. This offshore portion of the project would consist of a fixed platform and a permanently docked storage and regasification vessel. The facility would operate year-round to receive, vaporize, and deliver up to 500 million cubic feet per day of natural gas to the CAPP.

Specifically, the Aguirre Offshore GasPort Project would consist of the following:

• Construction of a fixed platform carrying topside facilities and two berths, one on each side of the fixed platform;

• Permanent docking of an LNG vessel at the fixed platform with a storage capacity of 150,900 cubic meters;

• Construction of about 4 miles of new 18-inch-diameter subsea pipeline, which would be coated in protective concrete and laid atop the sea floor; and

• Construction of a new onshore metering and regulating (M&R) station within the boundaries of the power plant.

The general location of the project facilities is shown in Appendix 1.¹

¹ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Excelerate is still in the planning phase for the Aguirre Offshore GasPort Project, and workspace requirements have not been finalized. However, all facility construction would be completed offshore with the exception of the M&R station. Following construction, less than 1 acre would be used for permanent operation of the project's onshore facilities.

The EIS Process

The National Environmental Policy Act (NEPA) requires the Commission to take into account the environmental impacts that could result from an action whenever it considers authorizing new natural gas facilities. NEPA also requires us ² to discover and address concerns the public may have about proposals. This process is referred to as scoping. The main goal of the scoping process is to focus the analysis in the EIS on the important environmental issues. By this notice, the Commission requests public comments on the scope of the issues to address in the EIS. We will consider all filed comments during the preparation of the EIS.

² “We,” “us,” and “our” refer to the environmental staff of the Commission's Office of Energy Projects.

In the EIS we will discuss impacts that could occur as a result of the construction and operation of the planned project under these general headings:

• Geology and soils;

• Water resources and sea floor;

• Marine vegetation;

• Fisheries, wildlife, and endangered and threatened species;

• Cultural resources;

• Land use;

• Air quality and noise;

• Socioeconomics; and

• Public safety.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS. In addition, we participated in Excelerate's February 2, 2012 public informational open house meeting in the project area to explain the environmental review process to interested stakeholders and to answer questions about the FERC process.

We will present our independent analysis of the issues in the EIS, which we will publish in both English and Spanish and distribute for public comment. After the comment period, we will consider all timely comments and revise the document, as necessary, before issuing a final EIS. To ensure we have the opportunity to consider your comments, please carefully follow the instructions in the Public Participation section of this notice beginning on page 5.

With this notice, we are asking agencies with jurisdiction by law and/or special expertise with respect to the environmental issues related to this project to formally cooperate with us in the preparation of the EIS. Agencies that would like to request cooperating agency status should follow the instructions for filing comments provided under the Public Participation section of this notice. Currently, the U.S. Army Corps of Engineers and U.S. Coast Guard have expressed their intentions to participate as cooperating agencies in the preparation of the EIS to satisfy their NEPA responsibilities related to this project.

Consultations Under Section 106 of the National Historic Preservation Act

In accordance with the Advisory Council on Historic Preservation's implementing regulations for Section 106 of the National Historic Preservation Act, we are using this notice to initiate consultation with the Puerto Rico State Historic Preservation Office (SHPO), and to solicit their views and those of other government agencies and the public on the project's potential effects on historic properties.³ We will define the project-specific Area of Potential Effects (APE) in consultation with the SHPO as the project develops. On natural gas facility projects, the APE at a minimum encompasses all areas subject to ground disturbance (including contractor/pipe storage yards and access roads). Our EIS for this project will document our findings on the impacts on cultural resources and summarize the status of consultations under Section 106.

³ The Advisory Council on Historic Preservation regulations are at Title 36, Code of Federal Regulations, Part 800. Those regulations define historic properties as any prehistoric or historic district, site, building, structure, or object included in or eligible for inclusion in the National Register for Historic Places.

Currently Identified Environmental Issues

We have already identified several issues and alternatives that we think deserve attention based on a preliminary review of the planned facilities, comments made to us at the informational open house, preliminary consultations with other agencies, and initial environmental information provided by Excelerate. This preliminary list of issues may be changed based on your comments and our analysis:

• Impacts on recreational fishing, marine mammals, and shipping traffic in Jobos Bay and near the offshore facility; and

• Visual impacts.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before March 30, 2012.

For your convenience, there are four methods you can use to submit your comments to the Commission. In all instances, please reference the project docket number (PF12-4-000) with your submission. The Commission encourages electronic filing of comments and has expert staff available to assist you at (202) 502-8258 or efiling@ferc.gov.

(1) You can file your comments electronically by using the eComment feature located on the Commission's Web site (www.ferc.gov) under the link to Documents and Filings. This is an easy method for interested persons to submit brief, text-only comments on a project;

(2) You can file your comments electronically using the eFiling feature located on the Commission's Web site (www.ferc.gov), under the link Documents and Filings. With eFiling, you can provide comments in a variety of formats by attaching them as a file with your submission. New eFiling users must first create an account by clicking on eRegister. You must select the type of filing you are making. If you are filing a comment on a particular project, please select “Comment on a Filing”;

(3) You can file a paper copy of your comments by mailing them to the following address: Kimberly D. Bose, Secretary, Federal Energy Regulatory Commission, 888 First Street NE., Room 1A, Washington, DC 20426.

(4) You can also place your written comments in the Aguirre Offshore GasPort Project Comment Box located at the Salinas Public Library. We will arrange for our contractor to forward comments in the drop box directly to FERC where they will be placed into the public file for the project. The library is located on Calle Santos P Amadeo in Salinas, Puerto Rico and is open from Monday to Thursday from 9:30 to 6 p.m. and Friday from 8 to 4:30. The library is closed on weekends.

Environmental Mailing List

The environmental mailing list includes federal, commonwealth, and local government representatives and agencies; elected officials; environmental and public interest groups; other interested parties; and local libraries and newspapers. This list also includes all affected landowners (as defined in the Commission's regulations) who are potential right-of-way grantors, whose property may be used temporarily for project purposes, or who own homes within certain distances of aboveground facilities, and anyone who submits comments on the project. We will continue to update the environmental mailing list as the analysis proceeds to ensure that we send the information related to this environmental review to all individuals, organizations, and government entities interested in and/or potentially affected by the planned project.

Copies of the completed draft EIS will be sent to the environmental mailing list for public review and comment. This distribution will be a CD containing both the English and Spanish version of the document. If you would prefer to receive a paper copy of the document instead of the CD version or would like to remove your name from the mailing list, please return the attached Information Request (Appendix 2). The return mailer provides you the opportunity to request either an English or Spanish version of the EIS hard copy.

Becoming an Intervenor

Once Excelerate files its application with the Commission, you may want to become an “intervenor,” which is an official party to the Commission's proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that the Commission will not accept requests for intervenor status at this time. You must wait until the Commission receives a formal application for the project.

Additional Information

Additional information about the project is available from the Commission's Office of External Affairs, at (866) 208-FERC or on the FERC Web site (www.ferc.gov) using the eLibrary link. Click on the eLibrary link, click on “General Search,” and enter the docket number, excluding the last three digits in the Docket Number field (i.e., PF12-4). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: February 28, 2012.
Kimberly D. Bose,
Secretary.

[FR Doc. 2012-5233 Filed 3-2-12; 8:45 am]

BILLING CODE 6717-01-P